DEPARTMENT OF TRANSPORTATION

Federal Highway Administration

Environmental Impact Statement: Shannon County, Missouri

AGENCY: Federal Highway Administration (FHWA), DOT.

ACTION: Notice of Intent.

SUMMARY: The FHWA is issuing this notice to advise the public that an environmental impact statement (EIS) will be prepared for proposed improvements to the transportation system in Shannon County, Missouri.

FOR FURTHER INFORMATION CONTACT: Mr. Donald Neumann, Programs Engineer, FHWA Division Office, 209 Adams Street, Jefferson City, MO 65101, Telephone: (573) 636-7104 or Mr. Bob Sfreddo, Director of Project Development, Missouri Department of Transportation, P.O. Box 270, Jefferson City, MO 65102, Telephone: (573) 751-4586.

SUPPLEMENTARY INFORMATION: The FHWA, in cooperation with the Missouri Department of Transportation (MoDOT), the National Park Service (NPS), and the Ozark National Scenic Riverways (ONSR) will prepare an EIS for a proposed project to improve Route 19 in south-central, Missouri. The proposed project extends from 2.0 miles south of Route EE south 3.0 miles to 1.0 mile south of Round Spring, Missouri. This proposal includes the replacement of three bridges over Spring Valley Creek, Sinking Creek, and the Current River. All three rivers are in Ozark National Scenic Riverways. Improvements are considered necessary to: (1) Improve safety and capacity for local and through traffic, (2) replace three bridges which are structurally deficient and functionally obsolete and, (3) support local and regional economic development for Shannon County and the surrounding area.

The proposed project will provide a two-lane roadway with at-grade intersections at rural crossroads. Alternatives under consideration include (1) taking no action; (2) transportation management options; (3) constructing new bridges and roadways beside the existing alignment; and (4) constructing a two-land roadway on new location.

The scoping process will involve all appropriate federal, state, and local agencies, and private organizations and citizens who have previously expressed or are known to have interest in this proposal. The scoping process was initiated at a September 23, 1999 meeting. Further public meetings will be held to engage the regional community in the decision making process and to obtain public comment. A public hearing will be held to present the findings of the draft EIS (DEIS). The DEIS will be available for public and agency review and comment prior to the public hearing.

To ensure that the full range of issues related to this proposed action are addressed and all significant issues identified, comments and suggestions are invited from all interested parties. Comments or questions concerning this proposed action and the EIS should be directed to the FHWA or MoDOT at the address provided above.

(Catalog of Federal Domestic Assistance Program Number 20.205, Highway Planning and Construction. The regulations implementing Executive Order 12373 regarding intergovernmental consultation on Federal programs and activities apply to this program.)

Issued on: March 3, 2000.
Donald L. Neumann,
Program Engineer, Jefferson City.

[FR Doc. 00-6058 Filed 3-10-00; 8:45 am]

BILLING CODE 4910-22-M